DEPARTMENT OF THE INTERIOR

Geological Survey

Inventory of Geological and Geophysical Collections at State Surveys

AGENCY: U.S. Geological Survey.

ACTION: Request for Public Comments on Proposed Information Collection Submitted to the Office of Management and Budget for Review Under the Paperwork Reduction Act.

SUMMARY: The proposal to initiate the collection of information described below will be submitted to the Office of Management and Budget for approval under the provisions of the Paperwork Reduction Act (44 U.S.C. Chapter 35). Copies of the proposed collection of information and related forms may be obtained by contacting the Bureau's Clearance Officer at the phone number listed below. OMB has up to 60 days to approve the information collection, but may respond after 30 days; therefore public comments should be submitted to OMB within 30 days in order to assure maximum consideration. Comments and suggestions on the proposal should be made directly to the Desk Officer for the Interior Department, OMB-OIRA, via e-mail to OIRA_DOCET@omb.eop.gov or via facsimile to (202) 395-6566, and to the Bureau Clearance Officer, U.S. Geological Survey, 807 National Center, 12201 Sunrise Valley Drive, Reston, Virginia 20192.

Specific public comments are requested as to:

1. Whether the collection of information is necessary for the proper performance of the functions of the Bureau, including whether the information will have practical utility;

2. The accuracy of the Bureau's estimate of the burden of the collection of information, including the validity of the methodology and assumptions use;

3. The quality, utility, and clarity of the information to be collected; and

4. How to minimize the burden of the collection of information on those who are to respond, including the use of the appropriate automated, electronic, mechanical, or other forms of information technology.

Title: Inventory of Geological and Geophysical Collections at State Surveys.

OMB approval number: 1028-.

Abstract: Section 351 of the Energy Policy Act of 2005 directs the Secretary of the Interior, through the Director of the U.S. Geological Survey, “to carry out a National Geological and Geophysical data Preservation Program” (NGGDPP). The Implementation Plan for the National Geological and Geophysical Data Preservation Program submitted to Congress in August 2006 outlines the vision and purpose of the program and makes recommendations for implementation of the program. One of the action items in the FY 2007 implementation plan is to “begin interactions with State geological surveys and other DOI agencies that maintain geological and geophysical data and samples to address their preservation and data rescue needs.” As the first step in this process, the USGS is requesting that each state provide an assessment of their current collections resources and data preservation needs. This information will provide a snapshot of the diversity of scientific collections held, supported, or used by state geological surveys.

The inventory covers geological and geophysical collections including:

(1) Physical collections such as cores, rocks, minerals, fossils, and liquid samples (such as oil).

(2) Digital collections (such as analyses and well logs) that are/were related to physical collections.

(3) Paper and other records (such as microfiche and tapes) that need to be converted to digital format (such as seismic lines and historical geological records).

Bureau Form Number: None.

Frequency: One time.

Description of Respondents: State Geological Surveys.

Annual Responses: 50.

Annual Burden in Hours: 150.

Bureau Clearance Officer: Fred Travnicek, 703-648-7231.

FOR FURTHER INFORMATION CONTACT: Tamara Dickinson, U.S. Geological Survey, MS911 National Center, Reston, Virginia 20192, (703) 648-6633.

P. Patrick Leahy,
Associate Director for Geology, U.S. Geological Surveys.

[FR Doc. 06-9843 Filed 12-22-06; 8:45 am]

BILLING CODE 4311-AM-M